DEPARTMENT OF THE INTERIOR

Bureau of Land Management

[15X L1109AF LLUTW01000 L12200000.DO0000 241A]

Notice of Intent To Amend the Pony Express Resource Management Plan for the Salt Lake Field Office, Utah, and Prepare an Associated Environmental Assessment for the Eastern Lake Mountains Area

AGENCY: Bureau of Land Management, Interior.

ACTION: Notice of intent.

SUMMARY: In compliance with the National Environmental Policy Act of 1969, as amended (NEPA), and the Federal Land Policy and Management Act of 1976, as amended (FLPMA), the Bureau of Land Management (BLM) Salt Lake Field Office (SLFO), Salt Lake City, Utah, intends to prepare a Resource Management Plan (RMP) Amendment with an associated Environmental Assessment (EA) for target shooting in the Eastern Lake Mountains area. This notice is announcing the beginning of the scoping process to solicit public comments and identify issues.

DATES: This notice initiates the public scoping process for the RMP amendment with an associated EA. Comments on issues to be considered may be submitted in writing until July 13, 2015. The date(s) and location(s) of any scoping meetings will be announced at least 15 days in advance through local news media, newspapers and the BLM Web site at: http://www.blm.gov/ut/st/en/fo/salt_lake/planning.html. In order to be included in the analysis, all comments must be received prior to the close of the 30-day scoping period or 15 days after the last public meeting, whichever is later. We will provide additional opportunities for public participation as appropriate.

ADDRESSES: You may submit comments on issues and planning criteria related to the Eastern Lake Mountains Plan Amendment/EA by any of the following methods:

• Web site: https://www.blm.gov/ut/enbb/index.php

• Email: blm_ut_sl_comments@blm.gov

• Fax: 801-977-4397 or

• Mail: BLM-SLFO, 2370 South Decker Lake Boulevard, West Valley City, Utah 84119

Documents pertinent to this proposal may be examined at the SLFO located at 2370 South Decker Lake Boulevard, West Valley City, Utah 84119.

FOR FURTHER INFORMATION CONTACT: Pam Schuller, Planning and Environmental Coordinator, telephone 801-977-4377; address BLM-SLFO, 2370 South Decker Lake Boulevard, West Valley City, Utah 84119; email: blm_ut_sl_comments@blm.gov. Contact Ms. Schuller to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM SLFO, Salt Lake City, Utah, intends to prepare an RMP amendment with an associated EA for the Eastern Lake Mountains area, announces the beginning of the scoping process, and seeks public input on issues and planning criteria. The planning area is located in Utah County, Utah, and encompasses approximately 8,124 acres of public land. The purpose of the public scoping process is to determine relevant issues that will influence the scope of the environmental analysis, including alternatives, and guide the planning process. Preliminary issues for the plan amendment area have been identified by BLM personnel; Federal, State, and local government agencies; and other stakeholders. The issues identified to date include: target shooting, public health and safety, and protection of cultural resources.

Preliminary planning criteria include:

• The RMP amendment will address BLM-administered lands only.

• The RMP amendment will make land use planning decisions specific to potential closure or restrictions of target shooting to determine the desired future condition and uses of these public lands.

• The RMP amendment will utilize a collaborative and multi-jurisdictional approach to determine the desired future condition of public lands.

• The RMP amendment will comply with NEPA, FLPMA, and other applicable laws, executive orders, regulations and policy.

• The RMP amendment will recognize valid and existing rights.

You may submit comments on issues and planning criteria in writing to the BLM at any public scoping meeting, or you may submit them to the BLM using one of the methods listed in the ADDRESSES section above. Interested parties may submit comments by the close of the 30-day scoping period or within 15 days after the last public meeting, whichever is later.

The BLM will utilize and coordinate the NEPA scoping process to help fulfill the public involvement process under section 106 of the National Historic Preservation Act (54 U.S.C. 306108) as provided in 36 CFR 800.2(d)(3). The information about historic and cultural resources within the area potentially affected by the proposed action will assist the BLM in identifying and evaluating impacts to such resources.

The BLM will consult with Native American tribes on a government-to-government basis in accordance with Executive Order 13175 and other policies. Tribal concerns, including impacts on Indian trust assets and potential impacts to cultural resources, will be given due consideration.

Federal, State, and local agencies, along with tribes and other stakeholders that may be interested in or affected by the proposed action that the BLM is evaluating, are invited to participate in the scoping process and, if eligible, may request, or be requested by the BLM, to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will explain in the Draft RMP Amendment/Draft EA why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: outdoor recreation, archaeology, rangeland management, wildlife, fire management, realty, and hazardous materials.

Authority: 40 CFR 1501.7 and 43 CFR 1610.2.

Lance C. Porter,
Acting Associate State Director.

[FR Doc. 2015-14296 Filed 6-11-15; 8:45 am]

BILLING CODE 4310-DQ-P